DEPARTMENT OF TRANSPORTATION

Federal Aviation Administration

14 CFR Part 135

[Docket No. FAA-2009-0023; Notice No. 09-02A]

RIN 2120-AJ32

Crew Resource Management Training for Crewmembers in Part 135 Operations

AGENCY: Federal Aviation Administration (FAA), DOT.

ACTION: Notice of proposed rulemaking; extension of comment period.

SUMMARY: This action extends the comment period for a proposed rule that was published on May 1, 2009. The proposed rule would require all certificate holders conducting operations under part 135 to include in their training programs crew resource management for crewmembers, including pilots and flight attendants. This proposal is needed to ensure that crewmembers in part 135 operations receive training and practice in the use of crew resource management principles, as appropriate for their operation. This proposed rule would respond to National Transportation Safety Board recommendations, address a recommendation from the Part 125/135 Aviation Rulemaking Committee, and would codify current FAA guidance. The intended effect of this proposal is to reduce the frequency and severity of errors that are crew based, which will reduce the frequency of accidents and incidents within the scope of part 135 operations. The FAA is seeking further comment on this proposed rule because all of the rulemaking documents were not available in the official docket.

DATES: Comments, identified by docket number FAA-2009-0023, must be received on or before September 28, 2009.

ADDRESSES: You may send comments identified by docket number FAA-2009-0023 using any of the following methods:

• Federal eRulemaking Portal: Go to http://www.regulations.gov and follow the online instructions for sending your comments electronically.

• Mail: Send comments to the Docket Operations, M-30; U.S. Department of Transportation, 1200 New Jersey Avenue, SE., Room W12-140, West Building Ground Floor, Washington, DC 20590-0001.

• Hand Delivery or Courier: Bring comments to the Docket Operations in Room W12-140 of the West Building Ground Floor at 1200 New Jersey Avenue, SE., Washington, DC, between 9 a.m. and 5 p.m., Monday through Friday, except Federal holidays.

• Fax: Fax comments to the Docket Operations at 202-493-2251.

For more information on the rulemaking process, see the SUPPLEMENTARY INFORMATION section of this document.

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78) or you may visit http://DocketsInfo.dot.gov.

Docket: To read background documents or comments received, go to http://www.regulations.gov at any time and follow the online instructions for accessing the docket, or to the Docket Operations in Room W12-140 of the West Building Ground Floor at 1200 New Jersey Avenue, SE., Washington, DC, between 9 a.m. and 5 p.m., Monday through Friday, except Federal holidays.

FOR FURTHER INFORMATION CONTACT: For technical questions concerning this proposed rule, contact Nancy Lauck Claussen, Federal Aviation Administration, Flight Standards Service, Air Transportation Division (AFS-200), 800 Independence Avenue, SW., Washington, DC 20591; Telephone: 202-267-8166; E-mail: nancy.l.claussen@faa.gov. For legal questions concerning this proposed rule, contact Anne Bechdolt, Federal Aviation Administration, Office of the Chief Counsel, 800 Independence Avenue, SW., Washington, DC 20591; Telephone: 202-267-3073; E-mail: anne.bechdolt@faa.gov.

SUPPLEMENTARY INFORMATION:

Comments Invited

The FAA invites interested persons to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, please send only one copy of written comments, or if you are filing comments electronically, please submit your comments only one time.

We will file in the docket all comments we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Proprietary or Confidential Business Information

Do not file in the docket information that you consider to be proprietary or confidential business information. Send or deliver this information directly to the person identified in the FOR FURTHER INFORMATION CONTACT section of this document. You must mark the information that you consider proprietary or confidential. If you send the information on a disk or CD-ROM, mark the outside of the disk or CD-ROM and also identify electronically within the disk or CD-ROM the specific information that is proprietary or confidential.

Under 14 CFR 11.35(b), when we are aware of proprietary information filed with a comment, we do not place it in the docket. We hold it in a separate file to which the public does not have access, and we place a note in the docket that we have received it. If we receive a request to examine or copy this information, we treat it as any other request under the Freedom of Information Act (5 U.S.C. 552). We process such a request under the DOT procedures found in 49 CFR part 7.

Availability of Rulemaking Documents

You can get an electronic copy of rulemaking documents using the Internet by—

1. Searching the Federal eRulemaking Portal (http://www.regulations.gov);

2. Visiting the FAA's Regulations and Policies Web page at http://www.faa.gov/regulations_policies or

3. Accessing the Government Printing Office's Web page at http://www.gpoaccess.gov/fr/index.html.

You can also get a copy by sending a request to the Federal Aviation Administration, Office of Rulemaking, ARM-1, 800 Independence Avenue, SW., Washington, DC 20591, or by calling (202) 267-9680. Make sure to identify the docket number or notice number of this rulemaking.

You may access all documents the FAA considered in developing this proposed rule, including economic analyses and technical reports, from the internet through the Federal eRulemaking Portal referenced in paragraph 1.

Background

On May 1, 2009 (74 FR 20263) the FAA published a proposed rule that would require all certificate holders conducting operations under part 135 to include in their training programs crew resource management for crewmembers, including pilots and flight attendants. The comment period for the proposed rule closes on July 30, 2009. Because the regulatory evaluation for the proposed rule was not available for review in the docket until July 24, 2009, the FAA is extending the comment period from July 30, 2009 to September 28, 2009.

Extension of Comment Period

The FAA wants to ensure that the proposed rulemaking and all its associated documents have been adequately available for public viewing and comment. Because the regulatory evaluation contains information regarding the expected benefits and costs of this rulemaking, the FAA has determined that a 60-day extension of the comment period is necessary to give the public adequate time to review this document. Such action is, in the public interest, and good cause exists for taking this action. Accordingly, the comment period for Notice No. 09-02 is extended until September 28, 2009.

Issued in Washington, DC, on July 27, 2009.
Julie A. Lynch,
Acting Director, Office of Rulemaking.

[FR Doc. E9-18322 Filed 7-29-09; 8:45 am]

BILLING CODE 4910-13-P